DEPARTMENT OF HOMELAND SECURITY

Federal Emergency Management Agency

[Docket ID: FEMA-2012-0027; OMB No. 1660-0054]

Agency Information Collection Activities: Proposed Collection; Comment Request, Assistance to Firefighters Grant Program-Grant Application Supplemental Information

AGENCY: Federal Emergency Management Agency, DHS.

ACTION: Notice.

SUMMARY: The Federal Emergency Management Agency, as part of its continuing effort to reduce paperwork and respondent burden, invites the general public and other Federal agencies to take this opportunity to comment on a revision of a currently approved collection. In accordance with the Paperwork Reduction Act of 1995, this notice seeks comments concerning grant application information necessary to assess the needs and benefits of applicants for the Assistance to Firefighters Grant Program.

DATES: Comments must be submitted on or before November 13, 2012.

ADDRESSES: To avoid duplicate submissions to the docket, please use only one of the following means to submit comments:

(1) Online. Submit comments at www.regulations.gov under Docket ID FEMA-2012-0027. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Sabrina R. Vaughn, Management/Program Analyst, Grant Program Directorate, 202-786-9793. You may contact the Records Management Division for copies of the proposed collection of information at facsimile number (202) 646-3347 or email address: FEMA-Information-Collections-Management@dhs.gov.

SUPPLEMENTARY INFORMATION: Information sought under this submission will comprise of applications for Assistance to Firefighters Grant Program (AFG) and Fire Prevention and Safety (FPS) grants. The authorizing legislation allows FEMA to fund fire department activities. The authority for AFG and FPS is derived from the Federal Fire Protection and Control Act of 1974 (15 U.S.C. 2229 et seq.), as amended. The information collected through the program's application is the minimum necessary to evaluate grant applications and is necessary for FEMA to comply with mandates delineated in AFG laws.

Collection of Information

Title: Assistance to Firefighters Grant Program-Grant Application Supplemental Information.

Type of Information Collection: Revision of a currently approved collection.

OMB Number: OMB No. 1660-0054.

FEMA Forms: FEMA Form 080-2, AFG Application (General Questions and Narrative); FEMA Form 080-2a, Activity Specific Questions for AFG Vehicle Applicants; FEMA Form 080-2b, Activity Specific Questions for AFG Operations and Safety Applications; FEMA Form 080-3, Activity Specific Questions for Fire Prevention and Safety Applicants; FEMA Form 080-3a, Fire Prevention and Safety; and FEMA Form 080-3b, Research and Development.

Abstract: The FEMA forms for this collection are used to objectively evaluate each of the anticipated applicants to determine which applicants' submission in each of the AFG activities are close to the established program priorities. FEMA also uses the information to determine eligibility and whether the proposed use of funds meets the requirements and intent of AFG legislation.

Affected Public: State, Local or Tribal Government, and Not-for-profit institutions.

Number of Respondents: 48,500.

Number of Responses: 48,500.

Estimated Total Annual Burden Hours: 212,975.

Estimated Cost: There are no recordkeeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: September 5, 2012.
Charlene D. Myrthil,
Director, Records Management Division, Mission Support Bureau, Federal Emergency Management Agency, Department of Homeland Security.

[FR Doc. 2012-22303 Filed 9-10-12; 8:45 am]

BILLING CODE 9111-78-P